DEPARTMENT OF HEALTH AND HUMAN SERVICES

National Institutes of Health

Submission for OMB Review; Comment Request; NIH Intramural Research Training Program Applications

Summary: Under the provisions of Section 3507(a)(1)(D) of the Paperwork Reduction Act of 1995, the Office of the Director (OD), the National Institutes of Health (NIH) has submitted to the Office of Management and Budget (OMB) a request for review and approval of the information collection listed below. This proposed information collection was previously published in the Federal Register on June 16, 2009 (Volume 74, Number 114, pages 28501-28502) and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: NIH Intramural Research Training Program Applications. Type of Information Collection Request: Extension of a currently approved collection. Need and Use of Information Collection: The proposed information collection activity is necessary in order to determine the eligibility and quality of potential awardees for traineeships in ten (10) NIH intramural research training programs. Frequency of Response: On occasion. Affected Public: Individuals seeking intramural training opportunities and references for these individuals. Type of Respondents: Postdoctoral, predoctoral, postbaccalaureate, technical, clinical, and student applicants. The annual reporting burden is as follows: Estimated Number of Respondents: 67,631; Estimated Number of Responses per Respondent: 1.0506; Average Burden Hours Per Response: 0.9545; and Estimated Total Annual Burden Hours Requested: 67,825. The annualized cost to respondents is estimated at $2,033,085. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Marilyn Tuttleman, M.S., Chief, Project Clearance Branch, Office of Policy for Extramural Research Administration (OPERA), OER, OD, NIH, One Rockledge Center, Room 3509, 6705 Rockledge Drive MSC 7974, Bethesda, MD 20892-7983, or call non-toll-free number 301-594-7949 or e-mail your request, including your address to: mtuttleman@mail.nih.gov.

Comments Due Date: Comments regarding this information collection are best assured of having their full effect if received within 30 days of the date of this publication.

Dated: August 17, 2009.
Steven Alves,
Project Officer, OD, OIR, OITE, National Institutes of Health.

[FR Doc. E9-20439 Filed 8-24-09; 8:45 am]

BILLING CODE 4140-01-P